DEPARTMENT OF THE INTERIOR

National Park Service

[NPS-WASO-NAGPRA-NPS0028647; PPWOCRADN0-PCU00RP14.R50000]

Notice of Inventory Completion: U.S. Department of Agriculture, Forest Service, Shoshone National Forest, Cody, WY

AGENCY: National Park Service, Interior.

ACTION: Notice.

SUMMARY: The U.S. Department of Agriculture (USDA), Forest Service, Shoshone National Forest has completed an inventory of human remains in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to the USDA, Forest Service, Shoshone National Forest. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the USDA, Forest Service, Shoshone National Forest at the address in this notice by October 3, 2019.

ADDRESSES: Lisa Timchak, Forest Supervisor, Shoshone National Forest, 808 Meadow Lane Avenue, Cody, WY 82414, telephone (307) 578-5187, email latimchak@fs.fed.us.

SUPPLEMENTARY INFORMATION: Notice is here given in accordance with the Native American Graves Protection and Repatriation Act (NAGPRA), 25 U.S.C. 3003, of the completion of an inventory of human remains under the control of the U.S. Department of Agriculture, Forest Service, Shoshone National Forest, Cody, WY. The human remains were removed from Park County, WY.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the USDA, Shoshone National Forest professional staff in consultation with representatives of the Cheyenne River Sioux Tribe of the Cheyenne River Reservation, South Dakota; Crow Tribe of Montana; Eastern Shoshone Tribe of the Wind River Reservation, Wyoming (previously listed as the Shoshone Tribe of the Wind River Reservation, Wyoming); Nez Perce Tribe (previously listed as the Nez Perce Tribe of Idaho); Northern Cheyenne Tribe of the Northern Cheyenne Indian Reservation, Montana; and the Shoshone-Bannock Tribes of the Fort Hall Reservation.

The Arapaho Tribe of the Wind River Reservation, Wyoming; Assiniboine and Sioux Tribes of the Fort Peck Indian Reservation, Montana; Oglala Sioux Tribe (previously listed as the Oglala Sioux Tribe of the Pine Ridge Reservation, South Dakota); and the Three Affiliated Tribes of the Fort Berthold Reservation, North Dakota were invited to consult but did not participate.

Hereafter, all Tribes listed in this section are referred to as “The Consulted and Invited Tribes.”

History and Description of the Remains

On August 10, 1969, human remains representing, at minimum, two individuals were removed by Dr. George C. Frison from 48PA551, the Dead Indian site, which is located near the Dead Indian Campground in the Shoshone National Forest, Park County, WY. At the time, Frison was the Wyoming State Archeologist and Head of the Department of Anthropology at the University of Wyoming. The fragmentary human remains are those of a child eight—nine years old and an adult (represented by a chipped and worn tooth). The burial was reported as probably a secondary internment with no associated funerary objects. No known individuals were identified.

The Dead Indian site was first visited by avocational archeologists in 1967. Subsequently the Wyoming Archaeological Society (WAS) conducted excavations there in 1969, 1971, and 1972. The major excavation of the site, in 1972, was supervised by George C. Frison of the University of Wyoming. Based on three radiocarbon tests and obsidian hydration tests, the site is McKean complex, Middle Archaic (3800+/-110 to 4430+/-250 B.P.).

Determinations Made by the U.S. Department of Agriculture, Forest Service, Shoshone National Forest

Officials of the U.S. Department of Agriculture, Forest Service, Shoshone National Forest have determined that:

• Pursuant to 25 U.S.C. 3001(9), the human remains described in this notice are Native American based on the archeological context, dental morphology, and features of the skeletal elements.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Crow Tribe of Montana.

• Treaties, Acts of Congress, or Executive Orders indicate that the land from which the Native American human remains were removed is the aboriginal land of the Crow Tribe of Montana.

• Pursuant to 43 CFR 10.11(c)(1), the disposition of the human remains may be to the Crow Tribe of Montana.

Additional Requestors and Disposition

Representatives of any Indian Tribe or Native Hawaiian organization not identified in this notice that wish to request transfer of control of these human remains should submit a written request with information in support of the request to Lisa Timchak, Forest Supervisor, Shoshone National Forest, 808 Meadow Lane Avenue, Cody, WY 82414, telephone (307) 578-5187, email latimchak@fs.fed.us, by October 3, 2019. After that date, if no additional requestors have come forward, transfer of control of the human remains to the Crow Tribe of Montana may proceed.

The U.S. Department of Agriculture, Forest Service, Shoshone National Forest is responsible for notifying The Consulted and Invited Tribes that this notice has been published.

Dated: August 6, 2019.
Melanie O'Brien,
Manager, National NAGPRA Program.

[FR Doc. 2019-18858 Filed 8-30-19; 8:45 am]

BILLING CODE 4312-52-P